DEPARTMENT OF AGRICULTURE

Agricultural Marketing Service

[Doc. No. AMS-ST-25-0650]

Plant Variety Protection Board Meeting

AGENCY: Agricultural Marketing Service, USDA.

ACTION: Notice of meeting.

SUMMARY: Pursuant to the Federal Advisory Committee Act (FACA), the Agricultural Marketing Service (AMS) is announcing a meeting of the Plant Variety Protection Board (Board). The meeting is being held to discuss a variety of topics including, but not limited to, program activities and measures to improve program efficiency and effectiveness. The meeting is open to the public. This notice sets forth the schedule and location for the meeting.

DATES: The meeting will be held on Monday, February 16, 2026, 8:00 a.m. to 5:00 p.m. and Tuesday, February 17, 2026, 1:00 p.m. to 5:00 p.m.

Registration: Those wishing to participate are encouraged to pre-register by January 23, 2026, by contacting Timothy Williams, Plant Variety Examiner, at telephone: (202) 720-1124 or email: timothy.r.williams@usda.gov.

ADDRESSES: The meeting will be held at the Hilton San Diego Bayfront, 1 Park Boulevard, San Diego, CA 92101; telephone: (619) 564-3333.

FOR FURTHER INFORMATION CONTACT: Timothy Williams, Plant Variety Examiner, Plant Variety Protection Office, USDA, AMS, Science and Technology Program, 1400 Independence Avenue SW, Washington, DC 20250; telephone: (202) 720-1124 or email: timothy.r.williams@usda.gov.

SUPPLEMENTARY INFORMATION: Pursuant to the provisions of section 10(a) of the FACA (5 U.S.C., Appendix 2), this notice informs the public that the Plant Variety Protection Office (PVP Office) is sponsoring a meeting of the Board on February 16-17, 2026. The Plant Variety Protection Act (PVP Act) (7 U.S.C. 2321 et seq.) provides legal protection in the form of intellectual property rights to developers of new varieties of plants. A certificate of Plant Variety Protection is awarded to an owner of a crop variety after an examination shows that it is new, distinct from other varieties, genetically uniform and stable through successive generations. The term of protection is 20 years for most crops and 25 years for trees, shrubs, and vines. The PVP Act also provides for a statutory Board (7 U.S.C. 2327). The Board is composed of 14 individuals who are experts in various areas of development and represent the seed industry sector, academia, farmers, and government. The duties of the Board are to: (1) advise the Secretary of Agriculture (Secretary) concerning the adoption of rules and regulations to facilitate the proper administration of the PVP Act; (2) provide advisory counsel to the Secretary on appeals concerning decisions on applications by the PVP Office and on requests for emergency public-interest compulsory licenses; and (3) advise the Secretary on any other matters under the regulations and rules of practice and on all questions under section 44 of the PVP Act, “Public interest in wide usage” (7 U.S.C. 2404).

Meeting Agenda: The purpose of the meeting will be to discuss PVP Office program activities and initiatives; improvements to make the program more efficient and effective; and strategies to continue to promote plant breeding, enhance innovation, and increase the competitiveness of U.S. agriculture. The meeting will be open to the public. Those wishing to participate are encouraged to pre-register by January 23, 2026, by contacting Timothy Williams, Plant Variety Examiner, at telephone: (202) 720-1124 or email: timothy.r.williams@usda.gov.

Equal opportunity practices, in accordance with USDA policies, will be followed in all membership appointments to the Committee.

In accordance with Federal civil rights law and USDA civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Meeting Accommodation: The meeting at USDA will provide reasonable accommodation to individuals with disabilities where appropriate. If you need reasonable accommodation to participate in this public meeting, please notify Timothy Williams at telephone: (202) 720-1124 or email: timothy.r.williams@usda.gov. Determinations for reasonable accommodation will be made on a case-by-case basis.

Minutes of the meeting will be available for public review for 30 days following the meeting on the internet at http://www.ams.usda.gov/PVPO.

Dated: December 10, 2025.
Cikena Reid,
USDA Committee Management Officer.

[FR Doc. 2025-22774 Filed 12-12-25; 8:45 am]

BILLING CODE P